DEPARTMENT OF ENERGY

Federal Energy Regulatory Commission

Combined Notice of Filings #1

Take notice that the Commission received the following electric rate filings:

Docket Numbers: ER12-2037-002.

Applicants: Spearville 3, LLC.

Description: Notice of Non-Material Change in Status of Spearville 3, LLC.

Filed Date: 1/30/13.

Accession Number: 20130130-5301.

Comments Due: 5 p.m. ET 2/20/13.

Docket Numbers: ER12-2617-002.

Applicants: Midwest Independent Transmission System Operator, Inc.

Description: SA 2431 G549 Amended Filing to be effective 9/13/2012.

Filed Date: 1/31/13.

Accession Number: 20130131-5003.

Comments Due: 5 p.m. ET 2/21/13.

Docket Numbers: ER13-347-001.

Applicants: PJM Interconnection, L.L.C.

Description: Compliance Filing per 1/8/2013 Order in Docket No. ER13-347-000 to be effective 4/1/2013.

Filed Date: 1/30/13.

Accession Number: 20130130-5270.

Comments Due: 5 p.m. ET 2/20/13.

Docket Numbers: ER13-733-001.

Applicants: Silver Bear Power, LLC.

Description: Amendment of Pending Filing 1 to be effective 3/1/2013.

Filed Date: 1/30/13.

Accession Number: 20130130-5271.

Comments Due: 5 p.m. ET 2/20/13.

Docket Numbers: ER13-832-000.

Applicants: Puget Sound Energy, Inc.

Description: OATT Housekeeping Cleanup to be effective 1/31/2013.

Filed Date: 1/30/13.

Accession Number: 20130130-5254.

Comments Due: 5 p.m. ET 2/20/13.

Docket Numbers: ER13-833-000.

Applicants: PacifiCorp.

Description: BPA Cooperative Communications Agreement 5th Revised to be effective 4/1/2013.

Filed Date: 1/30/13.

Accession Number: 20130130-5272.

Comments Due: 5 p.m. ET 2/20/13.

Docket Numbers: ER13-834-000.

Applicants: Southwest Power Pool, Inc.

Description: Registration Freeze Filing to be effective 2/1/2013.

Filed Date: 1/30/13.

Accession Number: 20130130-5273.

Comments Due: 5 p.m. ET 2/20/13.

Docket Numbers: ER13-835-000.

Applicants: Southern California Edison Company.

Description: GIA and Distribution Service Agreement SPVP048, RDC 10 Project to be effective 2/1/2013.

Filed Date: 1/31/13.

Accession Number: 20130131-5000.

Comments Due: 5 p.m. ET 2/21/13.

Docket Numbers: ER13-836-000.

Applicants: MATL LLP.

Description: Modify Attachment K to be effective 12/31/9998.

Filed Date: 1/31/13.

Accession Number: 20130131-5001.

Comments Due: 5 p.m. ET 2/21/13.

Docket Numbers: ER13-837-000.

Applicants: Southern California Edison Company.

Description: Amended Pacific Intertie DC Transmission Facilities Agmt with SCE and LADWP to be effective 4/2/2013.

Filed Date: 1/31/13.

Accession Number: 20130131-5002.

Comments Due: 5 p.m. ET 2/21/13.

Docket Numbers: ER13-838-000.

Applicants: Pacific Gas and Electric Company.

Description: CCSF IA—40th Quarterly Filing of Facilities Agreements to be effective 12/31/2012.

Filed Date: 1/31/13.

Accession Number: 20130131-5004.

Comments Due: 5 p.m. ET 2/21/13.

Docket Numbers: ER13-839-000.

Applicants: ISO New England Inc., Green Mountain Power Corporation.

Description: ISO New England Inc. and Green Mountain Power Corporation submit a Notice of Cancellation of Large Generator Interconnection Agreement.

Filed Date: 1/30/13.

Accession Number: 20130130-5302.

Comments Due: 5 p.m. ET 2/20/13.

Take notice that the Commission received the following land acquisition reports:

Docket Numbers: LA12-4-000.

Applicants: Bluegrass Generation Company, L.L.C., Blythe Energy, LLC, Calhoun Power Company, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, and Wallingford Energy LLC.

Description: Quarterly Land Acquisition Report of LS MBR Sellers.

Filed Date: 1/30/13.

Accession Number: 20130130-5291.

Comments Due: 5 p.m. ET 2/20/13.

Docket Numbers: LA12-4-000.

Applicants: Flat Rock Windpower LLC, Flat Rock Windpower II LLC, Marble River, LLC.

Description: Quarterly Land Acquisition Report of Flat Rock Windpower LLC, et al.

Filed Date: 1/30/13.

Accession Number: 20130130-5294.

Comments Due: 5 p.m. ET 2/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2013.
Nathaniel J. Davis, Sr.,
Deputy Secretary.

[FR Doc. 2013-03159 Filed 2-11-13; 8:45 am]

BILLING CODE 6717-01-P